DEPARTMENT OF DEFENSE

Department of the Army

[Docket ID: USA-2026-HQ-0100]

Privacy Act of 1974; System of Records

AGENCY: Department of the Army, Department of Defense (DoD).

ACTION: Rescindment of a System of Records Notice.

SUMMARY: In accordance with the Privacy Act of 1974, the Department of the Army is rescinding a System of Records Notice titled, Controlled Accountable Document Inventory System, A0001 DAMI. This system was established to conduct periodic inventory of classified documents and to determine or validate custodial accountability of those documents.

DATES: The rescindment of this SORN is effective January 23, 2026.

ADDRESSES: You may submit comments, identified by docket number and title, by either of the following methods:

* Federal Rulemaking Portal: https://www.regulations.gov. Follow the instructions for submitting comments.

* Mail: Department of Defense, Office of the Director of Administration and Management, Privacy, Civil Liberties, and Transparency Directorate, Regulatory Division, 4800 Mark Center Drive, Attn: Mailbox #24, Suite 05F16, Alexandria, VA 22350-1700.

Instructions: All submissions received must include the agency name and docket number for this Federal Register document. The general policy for comments and other submissions from members of the public is to make these submissions available for public viewing on the internet at https://www.regulations.gov as they are received without change, including any personal identifiers or contact information.

FOR FURTHER INFORMATION CONTACT: Ms. Joyce Luton, Department of the Army, Records Management Directorate, Attention: Army Privacy and Civil Liberties Office, 9301 Chapek Road (Building 1458), Fort Belvoir, VA 22060-5605 or by calling (571) 515-0213.

SUPPLEMENTARY INFORMATION:

I. Background

The Department of the Army system of records Controlled Accountable Document Inventory System, A0001 DAMI (February 22, 1993; 58 FR 10002) was established to conduct periodic inventory of classified documents and to determine or validate custodial accountability of those documents. The Army is rescinding A0001 DAMI because the records are now maintained as part of the A0 0001 DAMI, U.S. Army Security and Foreign Disclosure Files, published elsewhere in today's issue of the Federal Register.

DoD SORNs have been published in the Federal Register and are available from the address in FOR FURTHER INFORMATION CONTACT or at the Privacy, Civil Liberties, and Transparency Directorate website at https://dpcld.defense.gov.

II. Privacy Act

Under the Privacy Act, a “system of records” is a group of records under the control of an agency from which information is retrieved by the name of an individual or by some identifying number, symbol, or other identifying particular assigned to the individual. In the Privacy Act, an individual is defined as a U.S. citizen or alien lawfully admitted for permanent residence.

In accordance with 5 U.S.C. 552a(r) and Office of Management and Budget (OMB) Circular No. A-108, DoD has provided a report of this SORN rescindment to OMB and Congress.

SYSTEM NAME AND NUMBER:

Controlled Accountable Document Inventory System, A0001 DAMI.

HISTORY:

February 22, 1993; 58 FR 10002.

Dated: January 20, 2026.
Aaron T. Siegel,
Alternate OSD Federal Register Liaison Officer, Department of Defense.

[FR Doc. 2026-01235 Filed 1-22-26; 8:45 am]

BILLING CODE 6001-FR-P